DEPARTMENT OF THE INTERIOR

National Park Service

60-Day Notice of Intention To Request Clearance of Collection of Information; Opportunity for Public Comment

AGENCY: Department of the Interior.

ACTION: Notice and request for comments.

SUMMARY: The National Park Service (NPS) is proposing in 2002 to conduct a survey of trail management partners, including individuals working for state and federal agencies and nonprofit organizations located in 14 states between Georgia and Maine. In the survey, partners will be asked about their satisfaction with the level of support provided by the National Park Service. This survey will measure performance in meeting goals as required by the 1995 Government Performance and Results Act (GPRA).

| Estimated numbers of: Responses | Estimated numbers of: Burden hours
Survey of Appalachian National Scenic Trail Management Partners | 100 | 25

Under provisions of the Paperwork Reduction Act of 1995 and 5 CFR Part 1320, Reporting and Record Keeping Requirements, the National Park Service is soliciting comments on the need for gathering the information in the proposed surveys. The NPS also is asking for comments on the practical utility of the information being gathered; the accuracy of the burden hour estimate; ways to enhance the quality, utility, and clarity of the information to be collected; and ways to minimize the burden to respondents, including use of automated information collection techniques or other forms of information technology.

The NPS goal in conducting this survey is to determine the satisfaction level of Appalachian National Scenic Trail management partners in response to level of support provided by the National Park Service.

DATES: Public comments will be accepted on or before 60 days from the date of publication in the Federal Register.

Send Comments To: Rita Hennessy, Outdoor Recreation Specialist, Appalachian National Scenic Trail, Harpers Ferry Center, Harpers Ferry, West Virginia 25425.

FOR FURTHER INFORMATION CONTACT: Rita Hennessy: Voice: (304) 535-6170, e-mail: Rita_Hennessy@nps.gov

SUPPLEMENTARY INFORMATION: Titles: Survey of Appalachian National Scenic Trail Management Partners.

Bureau Form Number: None.

OMB Number: To be requested.

Expiration Date: To be requested.

Type of request: Request for new clearance.

Description of need: The National Park Service needs information to measure performance and to meet the requirements of the 1995 Government Performance and Results Act (GPRA).

Automated data collection: At the present time, there is not an automated way to gather this information because it includes asking respondents about their level of satisfaction with support provided by the National Park Service.

Description of respondents: Individuals working for State and Federal agencies and nonprofit organizations sharing responsibility for the management of the Appalachian National Scenic Trail.

Estimated average number of respondents: 100.

Estimated average number of responses: Each respondent will respond only one time, so the number of responses will be the same as the number of respondents.

Estimated average burden hours per response: 15 minutes.

Frequency of Response: 1 time per respondent.

Estimated annual reporting burden: 25 hours.

Dated: September 25, 2001.
Betsy Chittenden,
Information Collection Clearance Officer, WASO Administrative Program Center, National Park Service.

[FR Doc. 01-25644 Filed 10-11-01; 8:45 am]

BILLING CODE 4310-70-M